DEPARTMENT OF AGRICULTURE

National Agricultural Statistics Service

Notice of Intent To Suspend the Distiller's Grains Survey and Reports

AGENCY: National Agricultural Statistics Service, USDA.

ACTION: Notice of suspension of data collection and publication.

SUMMARY: This notice announces the intention of the National Agricultural Statistics Service (NASS) to suspend a currently approved information collection, the Distiller's Grains Survey, and its associated publication.

FOR FURTHER INFORMATION CONTACT: Joseph T. Reilly, Associate Administrator, National Agricultural Statistics Service, U.S. Department of Agriculture, (202) 720-4333.

SUPPLEMENTARY INFORMATION: Title: Distiller's Grains Survey.

OMB Control Number: 0535-0247.

Expiration Date of Approval: August 31, 2009.

Type of Request: To suspend a currently approved information collection.

Abstract: The primary objective of the National Agricultural Statistics Service is to prepare and issue State and national estimates of crop and livestock production, disposition, and prices. The Distiller's Grains Survey was conducted as a one time only survey to gather information for establishing a baseline measure of the current usage of distiller's grains and identify any barriers hindering livestock producers from utilizing distiller's grains and other ethanol by-products in their feed rations. NASS will suspend this information collection as of April 27, 2009 due to the completion of the survey.

Authority: These data were collected under authority of 7 U.S.C. 2204(a). Individually identifiable data collected under this authority are governed by Section 1770 of the Food Security Act of 1985, 7 U.S.C. 2276, which requires USDA to afford strict confidentiality to non-aggregated data provided by respondents.

Estimate of Burden: There will be no further public reporting burden for this collection of information.

Signed at Washington, DC, March 27, 2009.
Joseph T. Reilly,
Associate Administrator.

[FR Doc. E9-9483 Filed 4-24-09; 8:45 am]

BILLING CODE 3410-20-P